DEPARTMENT OF HOMELAND SECURITY

U.S. Citizenship and Immigration Services

Agency Information Collection Activities: Form N-25, Extension of an Existing Information Collection Request; Comment Request

ACTION: 30-Day Notice of Information Collection Under Review: Form N-25, Request for Verification of Naturalization.

The Department of Homeland Security, U.S. Citizenship and Immigration Services (USCIS) will be submitting the following information collection request to the Office of Management and Budget (OMB) for review and clearance in accordance with the Paperwork Reduction Act of 1995. A 60-day information collection notice was previously published in the Federal Register on February 16, 2012, at 77 FR 9258, allowing for a 60-day public comment period. USCIS did not receive any comments for this information collection.

The purpose of this notice is to allow an additional 30 days for public comments. Comments are encouraged and will be accepted until May 24, 2012. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief Regulatory Coordinator, Regulatory Coordination Division, Office of Policy and Strategy, Clearance Office, 20 Massachusetts Avenue, Washington, DC 20529. Comments may also be submitted to DHS via facsimile to 202-272-8352 or via email at uscisfrcomment@dhs.gov, and to the OMB USCIS Desk Officer via facsimile at 202-395-6974 or via email at oira_submission@omb.eop.gov.

When submitting comments by email please make sure to add OMB Control Number 1615-0049 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Extension of an existing information collection.

(2) Title of the Form/Collection: Request for Verification of Naturalization.

(3) Agency form number, if any, and the applicable component of the Department of Homeland Security sponsoring the collection: Form N-25. U.S. Citizenship and Immigration Services.

(4) Affected public who will be asked or required to respond, as well as a brief abstract: Primary: Not for Profit Institutions. This form will allow U.S. Citizenship and Immigration Services (USCIS) to obtain verification from the courts that a person claiming to be a naturalized citizen has, in fact, been naturalized.

(5) An estimate of the total number of respondents and the amount of time estimated for an average respondent to respond: 1,000 responses at 15 minutes (.25) per response.

(6) An estimate of the total public burden (in hours) associated with the collection: 250 annual burden hours.

If you have additional comments, suggestions, or need a copy of the proposed information collection instrument with instructions, or additional information, please visit the USCIS Web site at: http://www.regulations.gov/search/index.jsp.

If additional information is required contact: USCIS, Regulatory Coordination Division, Office of Policy and Strategy, 20 Massachusetts Avenue, Washington, DC 20529, (202) 272-1470.

Dated: April 18, 2012.
Laura Dawkins,
Acting Chief Regulatory Coordinator, Regulatory Coordination Division, Office of Policy and Strategy, U.S. Citizenship and Immigration Services, Department of Homeland Security.

[FR Doc. 2012-9784 Filed 4-23-12; 8:45 am]

BILLING CODE 9111-97-P